DEPARTMENT OF EDUCATION

[CFDA No. 84.258]

Even Start Family Literacy Program Grants for Indian Tribes and Tribal Organizations

AGENCY: Department of Education.

ACTION: Notice inviting applications for new awards for fiscal year (FY) 2001 funds for Even Start Family Literacy Program grants for Indian tribes and tribal organizations.

SUMMARY: Purpose of Competition: The Secretary of Education announces the availability of applications and an application deadline for federally recognized Indian tribes and tribal organizations to apply for FY 2001 new awards under the Even Start Family Literacy Program grant authority for Indian tribes and tribal organizations.

Even Start Family Literacy Program grants for Indian tribes and tribal organizations are awarded under Section 1202(a)(1)(C) of the Elementary and Secondary Education Act of 1965 (ESEA). The purpose of these grants is to help break the cycle of poverty and illiteracy by improving the educational opportunities of low-income families by integrating early childhood education, adult literacy or adult basic education, and parenting education into a unified family literacy program for federally recognized Indian tribes and tribal organizations.

Eligible Applicants: Federally recognized Indian tribes and tribal organizations. (The term “Indian tribe” and “tribal organization” have the meanings given those terms in section 4 of the Indian Self-Determination and Education Assistance Act.)

Applications Available: May 9, 2001.

Deadline for Transmittal of Applications: July 9, 2001.

Available Funds: The Secretary estimates that there will be sufficient FY 2001 funds for 6-10 new grants.

Matching and Use of Funds Requirements

Federal and local funding: An Even Start Family Literacy project's funding is comprised of both a Federal portion of funds (Federal share) and a portion contributed by the eligible applicant (local project share). The local share of the project may be provided in cash or in kind and may be obtained from any source, including other Federal programs funded by the ESEA. The Federal share of the project may not exceed—

• 90 percent of the total cost of the project in the first year;

• 80 percent in the second year;

• 70 percent in the third year;

• 60 percent in the fourth year;

• 50 percent in the fifth through eighth years; and

• 35 percent in any subsequent year.

Any grantee that wishes to reapply at the end of a project period (up to 48 months) must recompete for funding with new applicants.

Indirect costs: Recipients of an Even Start Indian tribe and tribal organization grant may not use funds awarded under this competition for the indirect costs of a project, or claim indirect costs as part of the local project share. Grant recipients may request the Secretary to waive this requirement. To obtain a waiver, however, the recipient must demonstrate to the Secretary's satisfaction that the recipient otherwise would not be able to participate in the Even Start Family Literacy Program. (Section 1204(b)(2), ESEA.)

Estimated Range of Awards: $100,000-$200,000 per year.

Estimated Average Size of Awards: $175,000 per year.

Estimated Number of Awards: 6-10.

Note: This Department is not bound by any estimates in this notice.

Project Period: Up to 48 months.

Applicable Regulations: The Education Department General Administrative Regulations (EDGAR) in 34 CFR parts 75, 77, 80, 81, 82, 85, 86, 97, 98, and 99.

SUPPLEMENTARY INFORMATION: Background: As required by Section 1202(a)(1)(C) of the ESEA, the Assistant Secretary of Elementary and Secondary Education (Assistant Secretary) awards grants to eligible Indian tribe and tribal organization applicants for projects that—

• Improve the educational opportunities of low-income families by integrating early childhood education, adult literacy or adult basic education, and parenting education into a unified family literacy program;

• Are implemented through cooperative activities that build on high-quality existing community resources to create a new range of services for federally recognized Indian tribe and tribal organization projects;

• Promote the academic achievement of children and adults;

• Assist children and adults from low-income families to achieve to challenging State content standards and challenging State student performance standards; and

• Use instructional programs based on scientifically based reading research (as defined in section 2252 of the ESEA) and the prevention of reading difficulties for children and adults, to the extent such research is available.

Each project must use the grant funds to provide intensive family literacy services that involve parents and children, from birth through age seven, in a cooperative effort to help parents become full partners in the education of their children and to assist children in reaching their full potential as learners. (Section 1204(a), ESEA.)

“Family literacy services” means services provided to participants on a voluntary basis that are of sufficient intensity in terms of hours, and of sufficient duration, to make sustainable changes in a family, and that integrate all of the following activities:

(A) Interactive literacy activities between parents and their children.

(B) Training for parents regarding how to be the primary teacher for their children and full partners in the education of their children.

(C) Parent literacy training that leads to economic self-sufficiency.

(D) An age-appropriate education to prepare children for success in school and life experiences. (Section 14401(15), ESEA.)

Each Even Start family literacy project must include fifteen specific program elements (listed in the application package). (Section 1205, ESEA.) Those elements include in part the following:

• identifying, recruiting, and providing services to families that are the most in need of family literacy services, as indicated by a low level of income, a low level of adult literacy or English language proficiency of the eligible parent or parents, and other need-related indicators;

• providing high-quality, intensive instructional programs that promote adult literacy (adult basic or secondary education or English language training) and empower parents to support the educational growth of their children (parenting education and interactive literacy-based activities between parents and their children), developmentally appropriate early childhood educational services, and preparation of children for success in regular school programs;

• providing home-based instructional services to participating parents and children;

• operating on a year-round basis, including providing both instructional and enrichment services during the summer months;

• using instructional programs based on scientifically based reading research for children and adults to the extent that research is available;

• encouraging participating families to attend regularly and to remain in the program a sufficient time to meet their program goals; and

• providing for an independent evaluation of the project to be used for program improvement.

Note: Applicants should refer to the application package for a specific description of all of the required program elements.

Staff qualifications: All instructional staff in new Even Start projects (and all new staff in existing Even Start projects) whose salaries are paid in whole or part with Federal Even Start funds must have obtained an associate's, bachelor's, or graduate degree in a field related to early childhood education, elementary or secondary school education, or adult education, and, if applicable, meet State qualifications for that respective field. For continuing Even Start projects that are applying for a second or third project period, the majority of instructional staff must meet these qualifications by December 2004 (in addition to new instructional staff meeting the qualifications immediately). Instructional staff include any staff who are hired to provide instructional services in any of the four core instructional components (early childhood education, adult basic or secondary education, parenting education, and interactive activities between parents and their children).

In addition, by December 2004, all individuals who are responsible for administering Even Start family literacy projects and who are paid in whole or part with Federal Even Start funds must have received training in the operation of family literacy programs, and all paraprofessionals who provide support for the instructional components of an Even Start program and who are paid in whole or part with Federal Even Start funds must have a high school diploma or its recognized equivalent. (Section 1205(5), ESEA.)

Eligible participants: In general, eligible participants are families with children and their parents who meet the following qualifications specified in section 1206(a) of the ESEA:

(1) The parent or parents must be eligible for participation in adult education and literacy activities under the Adult Education and Family Literacy Act, be within the State's compulsory school attendance age range (in which case a local educational agency must provide or ensure the availability of the basic education component), or be attending secondary school; and

(2) The child or children must be younger than eight years of age.

National and Local Evaluations: The Department conducts a national evaluation of Even Start family literacy projects as required by section 1209 of the ESEA. Although the current national evaluation is ending in summer of 2001, a new national evaluation is scheduled to begin in fall 2002. The new national evaluation is planned to be based upon data collected from a sample of Even Start family literacy projects.

Every Even Start project must conduct an independent local evaluation for program improvement. (Section 1205(15), ESEA.) The application package includes additional information about this local evaluation, and about performance objectives and indicators that the Department encourages applicants to use when developing their proposed programs.

FOR APPLICATIONS AND FURTHER INFORMATION CONTACT: Doris Sligh, U.S. Department of Education, 400 Maryland Avenue SW., Washington, DC 20202-6132. Telephone: (202) 260-0999, or via Internet: Doris.Sligh@ed.gov

The application package also is available on the Department's Web site at: www.ed.gov/GrantApps/#84.258.

If you use a telecommunications device for the deaf (TDD), you may call the Federal Information Relay Service (FIRS) at 1-800-877-8339. Individuals with disabilities may obtain this document in an alternative format (e.g., Braille, large print, audiotape, or computer diskette) on request to the contact person listed.

Individuals with disabilities may obtain a copy of the application package in an alternative format by contacting that person. However, the Department is not able to reproduce in an alternative format the standard forms included in the application package.

Electronic Access to this Document

You may view this document, as well as all other Department of Education documents published in the Federal Register, in text or Adobe Portable Document Format (PDF) on the Internet at the following site: www.ed.gov/legislation/fedregister.

To use PDF, you must have Adobe Acrobat Reader, which is available free at the previous site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo/gov/nara/index.html.

Program Authority: 20 U.S.C. 6362(a)(1)(C).

Dated: May 3, 2001.
Thomas M. Corwin,
Acting Deputy Assistant Secretary for Elementary and Secondary Education.

[FR Doc. 01-11703 Filed 5-8-01; 8:45 am]

BILLING CODE 4000-01-P